Proclamation 8892 of October 19, 2012

National Forest Products Week, 2012

By the President of the United States of America

A Proclamation

Since our Nation's founding, America's forests have played an essential role in powering our progress. These rich spaces have provided clean air and water for our communities, building materials for our homes, reliable growth for our economy, and vibrant environments for us to explore. During National Forest Products Week, we celebrate sustainable uses of the lands we share and recommit to protecting them for generations to come.

Our forests are an essential part of an economy built to last. Woodlands encourage tourism and recreation that create jobs and growth in our rural communities. They provide the raw materials for products we use every day, and they help produce clean, renewable bioenergy that puts us on the path toward a secure energy future. Meeting the economic, environmental, and energy challenges we face will require active forest management that promotes conservation and encourages landowners to keep their lands forested. Through my Administration's work to increase timber production and forest restoration, as well as efforts like the America's Great Outdoors Initiative, we continue to engage partners in government, the private sector, and communities nationwide in implementing a robust strategy to protect our forests and boost job creation.

America's expansive landscapes have contributed immensely to making our Nation what it is today, and they remain vital to our progress in the years ahead. This week, let us rededicate ourselves to managing our forests responsibly, encouraging sustainable forest use, and passing on a safer, healthier environment for the next generation.

To recognize the importance of products from our forests, the Congress, by Public Law 86-753 (36 U.S.C. 123), as amended, has designated the week beginning on the third Sunday in October of each year as “National Forest Products Week” and has authorized and requested the President to issue a proclamation in observance of this week.

NOW, THEREFORE, I, BARACK OBAMA, President of the United States of America, do hereby proclaim October 21 through October 27, 2012, as National Forest Products Week. I call on the people of the United States to join me in recognizing the dedicated individuals who are responsible for the stewardship of our forests and for the preservation, management, and use of these precious natural resources for the benefit of the American people.

IN WITNESS WHEREOF, I have hereunto set my hand this nineteenth day of October, in the year of our Lord two thousand twelve, and of the Independence of the United States of America the two hundred and thirty-seventh.

[FR Doc. 2012-26343

Filed 10-23-12; 11:15 am]

Billing code 3295-F3